DEPARTMENT OF JUSTICE

Notice of Proposed Settlement Agreement and Draft Restoration Plan Under The Oil Pollution Act of 1990, and The Clean Water Act

Notice is hereby given that the United States of America, on behalf of the Department of the Interior (“DOI”) acting through the Fish and Wildlife Service and the National Park Service, the District of Columbia, on behalf of the Department of Energy and Environment, and the Commonwealth of Virginia, acting through the Virginia Department of Environmental Quality (collectively “Trustees”), are providing an opportunity for public comment on a proposed Settlement Agreement (“Settlement Agreement”) among the DOI, the District of Columbia, the Commonwealth of Virginia, and Virginia Electric and Power Company d/b/a Dominion Energy Virginia (“Dominion Energy”). The Trustees are also providing notice of an opportunity for public comment on a draft Damage Assessment and Restoration Plan (“draft DARP”).

The settlement resolves the civil claims of DOI, the District of Columbia, and the Commonwealth of Virginia against Dominion Energy arising under their natural resource trustee authority under the Oil Pollution Act of 1990 (OPA), 33 U.S.C. 2701 et seq., the natural resource damages provisions of the Clean Water Act, 33 U.S.C. 1321(f)(4) and (5), and applicable state law for injury to, impairment of, destruction of, and loss of use of natural resources as a result of a January 24, 2016 oil spill at the Dominion Energy Crystal City Substation located in Arlington, Virginia (“Oil Spill”). The Oil Spill occurred when a transformer tank ruptured at the Crystal City Substation, spilling approximately 13,500 gallons of mineral oil dielectric fluid, most of which was recovered from the Substation's containment facility and through response action. The NPS is also acting under its authority under the System Unit Resource Protection Act System, 54 U.S.C. 100723. Further, in accordance with the OPA the Trustees have written a draft DARP that describes proposed alternatives for restoring the natural resources and natural resource services injured by the Oil Spill.

Under the proposed Settlement Agreement, Dominion Energy agrees to pay $390,385 to the DOI Natural Resource Damage Assessment and Restoration Fund, (established by 43 U.S.C. 1474b), to be used to restore, replace, rehabilitate or acquire the equivalent of, those resources injured by the Oil Spill and to compensate the public for lost recreational opportunities, as proposed in the draft DARP. Dominion Energy will receive from the Trustees a covenant not to sue for the claims resolved by the settlement, including assessment costs.

The publication of this notice opens a period for public comment on the proposed Settlement Agreement and draft DARP. The Trustees will receive comments relating to the Settlement Agreement and draft DARP for a period of thirty (30) days from the date of this publication. A copy of the proposed Settlement Agreement and the draft DARP are available electronically at https://parkplanning.nps.gov/projectHome.cfm?projectID=75342. A copy of the proposed Settlement Agreement and draft DARP may be examined at the George Washington Memorial Parkway office. Arrangements to view the documents must be made in advance by contacting the Natural Resource Division at (703) 289-2500. A copy of the Settlement Agreement only may also be obtained by mail from:

Assistant Solicitor, Environmental Restoration Branch, Office of the Solicitor, U.S. Department of the Interior, 1849 C Street NW, Washington, DC 20240.

Please reference: Dominion Energy Virginia Crystal City Substation Settlement Agreement, DOI-SOL-ERB-2018-001. When requesting a copy of the Settlement Agreement please enclose a check in the amount of $3.25 (25 cents per page reproduction cost) payable to the United States Treasury.

Comments on the proposed Settlement Agreement and/or the draft DARP may be submitted electronically at https://parkplanning.nps.gov/projectHome.cfm?projectID=75342. Additionally, written comments on the proposed Settlement Agreement and/or draft DARP should be addressed to Superintendent, George Washington Memorial Parkway Headquarters, Attn. Dominion DARP, 700 George Washington Memorial Parkway, McLean, VA 22101.

Robert Brook,
Assistant Section Chief, Environmental Enforcement Section, Environment and Natural Resources Division.

[FR Doc. 2018-02263 Filed 2-5-18; 8:45 am]

BILLING CODE 4410-15-P